NATIONAL CREDIT UNION ADMINISTRATION

Agency Information Collection Activities: Submission to OMB for Reinstatement; Comment Request

AGENCY: National Credit Union Administration (NCUA).

ACTION: Request for comment.

SUMMARY: The NCUA intends to submit the following information collection to the Office of Management and Budget (OMB) for review and clearance under the Paperwork Reduction Act of 1995 (Pub. L. 104-13, 44 U.S.C. Chapter 35). This information collection is published to obtain comments from the public.

DATES: Comments will be accepted until May 29, 2007.

ADDRESSES: Interested parties are invited to submit written comments to NCUA Clearance Officer or OMB Reviewer listed below:

Clearance Officer: Mr. Neil McNamara, National Credit Union Administration, 1775 Duke Street, Alexandria, Virginia 22314-3428, Fax No. 703-837-2861, E-mail: OCIOmail@ncua.gov.

OMB Reviewer: NCUA Desk Officer, Office of Management and Budget, Room 10226, New Executive Office Building, Washington, DC 20503.

FOR FURTHER INFORMATION CONTACT: Requests for additional information or a copy of the information collection request should be directed to Tracy Sumpter at the National Credit Union Administration, 1775 Duke Street, Alexandria, VA 22314-3428 or at (703) 518-6444.

SUPPLEMENTARY INFORMATION: Proposal for the following collection of information:

OMB Number: 3133-0127.

Form Number: N/A.

Type of Review: Reinstatement, with change, of a previously approved collection for which approval has expired.

Title: 12 CFR, Part 701.23 of NCUA's Rules and Regulations, Purchase, Sale, and Pledge of Eligible Obligations.

Description: Section 701.23 states the requirements for the purchase, sale and pledge of eligible obligations. The regulation provides that a federal credit union (FCU) may purchase loans from any source if it is granting such loans on an ongoing basis and the purchase will facilitate the packaging of a pool of loans for sale on the secondary market. A pool must include a substantial portion of the FCU's member loans and must be sold promptly. Section 701.23(b)(2)(ii) requires that a written agreement and a schedule of the eligible obligations covered by the agreement be retained in the purchaser's office; as well as any advance written approval required by 741.8 for purchases made under 701.23 (b)(1)(ii).

Estimated No. of Respondents/Recordkeepers: 2,500.

Estimated Burden Hours per Response: 5 hours.

Frequency of Response: At the time of purchase, sale, or pledge of an eligible obligation.

Estimated Total Annual Burden Hours: 12,500.

Estimated Total Annual Cost: $ 0.

By the National Credit Union Administration Board on March 22, 2007.
Mary Rupp,
Secretary of the Board.

[FR Doc. E7-5649 Filed 3-27-07; 8:45 am]

BILLING CODE 7535-01-P